DEPARTMENT OF COMMERCE

Patent and Trademark Office

Ombudsman Survey

ACTION: Revision of a currently approved collection, comment request.

SUMMARY: The United States Patent and Trademark Office (USPTO), as required by the Paperwork Reduction Act of 1995, invites comments on a proposed extension of an existing information collection.

DATES: Written comments must be submitted on or before May 18, 2018.

ADDRESSES: You may submit comments by any of the following methods:

• Email: InformationCollection@uspto.gov. Include “0651-0078 comment” in the subject line of the message.

• Federal Rulemaking Portal: http://www.regulations.gov.

• Mail: Marcie Lovett, Records and Information Governance Division Director, Office of the Chief Technology Officer, United States Patent and Trademark Office, P.O. Box 1450, Alexandria, VA 22313-1450.

FOR FURTHER INFORMATION CONTACT: Requests for additional information should be directed to Michael Easdale, Office of Patent Quality Assurance, United States Patent and Trademark Office, P.O. Box 1450, Alexandria, VA 22313-1450; by telephone at 571-272-3533; or by email to Michael.Easdale@uspto.gov with “0651-0078 comment” in the subject line. Additional information about this collection is also available at http://www.reginfo.gov under “Information Collection Review.”

SUPPLEMENTARY INFORMATION:

I. Abstract

In 2011, the United States Patent and Trademark Office (USPTO) designed and developed the Patents Ombudsman Program in response to customer feedback that the prosecution of patent applications does not always advance in accordance with established procedures. The USPTO implemented the Ombudsman program to assist patent applicants, attorneys, and agents in resolving problems, issues, and concerns arising during the prosecution of a patent application. The objectives of the Patents Ombudsman Program are to: (1) Facilitate complaint-handling for pro se applicants and applicant's representatives whose applications have stalled in the examination process; (2) track complaints to ensure each is handled within ten business days; (3) provide feedback and early warning alerts to USPTO management regarding training needs based on complaint trends; and (4) build a publicly accessible database of frequently asked questions that address commonly seen problems and provide effective resolutions. Participation in the Ombudsman program is voluntary and does not preclude the applicant's use of other avenues for redress of issues, including the filing of various patent process petitions. The program averages over 3,000 requests for assistance from approximately 1,800 unique customers each year. The Ombudsman program is free and open to all participants in the patenting process.

This collection covers information gathered on the Ombudsman Survey. This survey is a key component in the USPTO's evaluation of the Ombudsman program, providing a mechanism to monitor the effectiveness of the program and identify potential opportunities for enhancement of the Ombudsman process. This survey allows USPTO to gain consistent, reliable, and representative information from customers who use the Ombudsman program. The survey consists of 9 questions, and is sent every Spring to applicants/attorneys who have provided an email address and utilized the Ombudsman program within the past fiscal year. The survey is accessed through individualized links that are uniquely tied to the survey participants thereby eliminating the need for passwords, user IDs, or usernames to access the surveys. The survey period is open for a period of five (5) weeks. Customers not responding within the initial three (3) weeks will be sent a second email message and link seeking their participation.

There are no statutes or regulations requiring the USPTO to conduct this usage and satisfaction measurement. The USPTO uses the survey instrument to implement Executive Order 12862 of September 11, 1993, Setting Customer Service Standards, published in the Federal Register on September 14, 1993 (Vol. 58, No. 176).

II. Method of Collection

Web-based survey.

III. Data

OMB Number: 0651-0078.

IC Instruments and Forms: No form numbers.

Type of Review: Revision of a Previously Existing Information Collection.

Affected Public: Individuals or households; businesses or other for-profits; and not-for-profit institutions.

Estimated Number of Respondents: 1,100 responses per year. It is estimated that 1,800 unique customers use the Ombudsman program each year, and based on previous surveys, we estimate that the majority of them will respond to future surveys. The number of responses to this survey should adequately represent all Patent Examining Technology Centers.

Estimated Time per Response: The USPTO estimates that it will take the public approximately 5 minutes (0.08 hours) to submit the information in this collection, including the time to access the survey, gather any materials needed, fill out the survey, and submit the completed item to the USPTO.

Estimated Total Annual Respondent Burden Hours: 91.67 hours.

Estimated Total Annual Respondent (Hourly) Cost Burden: $33,435.42. The USPTO expects that both professionals and paraprofessionals will complete these surveys, with 75% being completed by professionals and 25% by paraprofessionals. The current professional hourly wage rate is $438 and the rate for paraprofessionals is $145. The professional hourly rate used for the calculation is the average rate for attorneys in private firms as published in the 2016 Report of the Economic Survey by the American Intellectual Property Law Association (AIPLA). The paraprofessional hourly rate comes from 2017 National Utilization and Compensation Survey published by the National Association of Legal Assistants (NALA). Using the combined hourly rate of $364.75, the USPTO estimates that the respondent cost burden for this collection will be $33,435.42 per year as shown in the table below.

IC No. | Item | Estimated time for response (minutes) | Estimated annual responses | Estimated annual burden hours | Rate ($/hr) | Estimated annual cost burden
|  | (a) | (b) | (a) × (b) / 60 = (c) | (d) | (c) × (d) = (e)
1 | Ombudsman Survey | 5 mins. (0.08 hours) | 1,100 | 91.67 | $364.75 | $33,435.42
Total |  |  | 1,100 | 91.67 |  | 33,435.42

Estimated Total Annual (Non-Hour) Respondent Cost Burden: $0. There are no capital start-up, maintenance, postage, or recordkeeping costs associated with this information collection.

IV. Request for Comments

Comments submitted in response to this notice will be summarized or included in the request for OMB approval of this information collection; they also will become a matter of public record.

Comments are invited on:

(a) Whether the proposed collection of information is necessary for the proper performance of the functions of the agency, including whether the information shall have practical utility;

(b) The accuracy of the agency's estimate of the burden (including hours and cost) of the proposed collection of information;

(c) Ways to enhance the quality, utility, and clarity of the information to be collected; and

(d) Ways to minimize the burden of the collection of information on respondents, e.g., the use of automated collection techniques or other forms of information technology.

Marcie Lovett,
Records and Information Governance Division Director, OCTO, United States Patent and Trademark Office.

[FR Doc. 2018-05468 Filed 3-16-18; 8:45 am]

BILLING CODE 3510-16-P